DEPARTMENT OF ENERGY

Federal Energy Regulatory Commission

Combined Notice of Filings #2

Take notice that the Commission received the following electric rate filings:

Docket Numbers: ER11-3576-012; ER11-3401-011.

Applicants: Golden Spread Electric Cooperative, Inc., Golden Spread Panhandle Wind Ranch, LLC.

Description: Notice of Non-material Change in Status of Golden Spread Electric Cooperative, Inc.

Filed Date: 7/13/15

Accession Number: 20150713-5221.

Comments Due: 5 p.m. ET 8/3/15.

Docket Numbers: ER13-1947-001.

Applicants: PJM Interconnection, L.L.C.

Description: Compliance filing: Designation of Filing Party assoc to Compliance Filing in Docket No. ER13-1947 to be effective N/A.

Filed Date: 7/14/15.

Accession Number: 20150714-5095.

Comments Due: 5 p.m. ET 8/4/15.

Docket Numbers: ER15-1196-003.

Applicants: Nevada Power Company, Sierra Pacific Power Company.

Description: Compliance Filing with no tariff revisions of Nevada Power Company, et al.

Filed Date: 7/13/15.

Accession Number: 20150713-5227.

Comments Due: 5 p.m. ET 8/3/15.

Docket Numbers: ER15-2200-000.

Applicants: PJM Interconnection, L.L.C.

Description: Compliance filing: Compliance Filing per 5/14/2015 Order in Docket No. ER13-1947-000 to be effective 1/1/2014.

Filed Date: 7/14/15.

Accession Number: 20150714-5087.

Comments Due: 5 p.m. ET 8/4/15.

Docket Numbers: ER15-2201-000.

Applicants: Alabama Power Company.

Description: Section 205(d) Rate Filing: Wheeler Solar (McRae Solar) SGIA Filing to be effective 6/29/2015.

Filed Date: 7/14/15.

Accession Number: 20150714-5107.

Comments Due: 5 p.m. ET 8/4/15.

Docket Numbers: ER15-2202-000.

Applicants: Alabama Power Company.

Description: Section 205(d) Rate Filing: Wheeler Solar (Wheeler Solar) SGIA Filing to be effective 6/29/2015.

Filed Date: 7/14/15.

Accession Number: 20150714-5108.

Comments Due: 5 p.m. ET 8/4/15.

Docket Numbers: ER15-2203-000.

Applicants: Midcontinent Independent System Operator, Inc.

Description: Section 205(d) Rate Filing: 2015-07-14_SA 2819 Certificate of Concurrence ComEd-Ameren TIA to be effective 7/13/2015.

Filed Date: 7/14/15.

Accession Number: 20150714-5127.

Comments Due: 5 p.m. ET 8/4/15.

Docket Numbers: ER15-2204-000.

Applicants: California Independent System Operator Corporation.

Description: Section 205(d) Rate Filing: 2015-07-14 Pricing Enhancements—ETC-TOR Self-Schedules to be effective 9/15/2015.

Filed Date: 7/14/15.

Accession Number: 20150714-5135.

Comments Due: 5 p.m. ET 8/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2015.
Nathaniel J. Davis, Sr.,
Deputy Secretary.

[FR Doc. 2015-17694 Filed 7-17-15; 8:45 am]

BILLING CODE 6717-01-P